BROADCASTING BOARD OF GOVERNORS

Proposed Collection Reinstatement with Change; Comment Request

AGENCY: The Broadcasting Board of Governors.

ACTION: Proposed Collection Reinstatement With Change; Comment Request.

SUMMARY: The Broadcasting Board of Governors (BBG), as part of its continuing effort to reduce paperwork and respondent burden, invites the general public and other Federal agencies to comment on an information collection titled, “Surveys and Other Audience Research for Radio and TV Marti.” This request for comment is being made pursuant to the Paperwork Reduction Act of 1995 [Pub. L. 104-13; 44 U.S.C. 3506(c)(2)(A)].

The information collection activity involved with this program is conducted pursuant to the mandate given to the BBG (formerly the United States Information Agency) in accordance with Public Law 98-111, the Radio Broadcasting to Cuba Act, dated, October 4, 1983, to provide for the broadcasting of accurate information to the people of Cuba and other purposes. This act was amended by Public Law 101-246, dated, February 16, 1990, which established the authority for TV Marti.

DATES: Comments must be submitted on or before December 18, 2009.

FOR FURTHER INFORMATION CONTACT: Ms. Cathy Brown, the BBG Clearance Officer, BBG, IBB/A, Room 1274, 330 Independence Avenue, SW., Washington, DC 20237, telephone (202) 203-4664, e-mail address cabrown@bbg.gov.

Copies: Copies of the Request for Clearance (OMB 83-I), supporting statement, and other documents that will be submitted to OMB for approval may be obtained from the BBG Clearance Officer.

SUPPLEMENTARY INFORMATION: Public reporting burden for this proposed collection of information is estimated to total 772 hours based on an average of the following: 30 minutes (.50 of an hour) per response for 600 Field Survey respondents conducted 1 time per year; 240 minutes (4 hours) for 48 Focus Group Study respondents conducted 2 times per year; and 153 minutes (2.33 hours) for 120 Panel Group Study respondents based on one panel study, 10 respondents per month for 12 months. This burden estimate includes the time for reviewing instructions, searching existing data sources, gathering and maintaining the data needed, and completing and reviewing the collection of information. Responses are voluntary and respondents will be asked to respond only one time. Comments are requested on the proposed information collection concerning:

(a) Whether the proposed collection of information is necessary for the proper performance of the agency, including whether the information has practical utility;

(b) the accuracy of the Agency's burden estimates;

(c) ways to enhance the quality, utility, and clarity of the information collected; and

(d) ways to minimize the burden of the collection of information on the respondents, including the use of automated collection techniques or other forms of information technology. Send comments regarding this burden estimate or any other aspect of this collection of information to Ms. Cathy Brown, the BBG Clearance Officer, BBG, IBB/A, Room 1274, 330 Independence Avenue, SW., Washington, DC 20237, telephone (202) 203-4664, e-mail address: cabrown@bbg.gov.

Current Actions: BBG is requesting reinstatement of this collection for a three-year period and approval for a revision to the burden hours.

Title: Surveys and Other Audience Research for Radio and TV Marti

Abstract: Data from this information collection are used by BBG's Office of Cuba Broadcasting (OCB) in fulfillment of its mandate to evaluate effectiveness of Radio and TV Marti operations by estimating the audience size and composition for broadcasts; and assess signal reception, credibility and relevance of programming through this research.

Proposed Frequency of Responses:

No. of Respondents—600 Field Study + 48 Group Study + 120 Panel Study = 768.

Recordkeeping Hours—.50 Field Study + 4 Group Study + 2.38 Panel Study Group = (300) + (192) + (280) = 772.

Total Annual Burden—

Dated: September 30, 2009.
Marie Lennon,
Chief of Staff for IBB.

[FR Doc. E9-25046 Filed 10-16-09; 8:45 am]

BILLING CODE 8610-01-P